OFFICE OF SCIENCE AND TECHNOLOGY POLICY

Meeting of the President's Council of Advisors on Science and Technology

ACTION: Notice of meeting.

SUMMARY: This notice sets forth the schedule and summary agenda for a meeting of the President's Council of Advisors on Science and Technology (PCAST), and describes the functions of the Council. Notice of this meeting is required under the Federal Advisory Committee Act (FACA).

Dates and Place: June 25, 2007, Arlington, VA. The meeting will be held in Room 1235 of the National Science Foundation at 4201 Wilson Boulevard, Arlington, Virginia 22230.

Note that due to security requirements at the National Science Foundation, anyone planning to attend must pre-register no later than close of business on Thursday, June 21, 2007 by going to the PCAST Web site at: http://www.ostp.gov/PCAST/pcast.html or by calling 703-536-4996.

Type of Meeting: Open. Further details on the meeting agenda will be posted on the PCAST web site given above.

Proposed Schedule and Agenda: The President's Council of Advisors on Science and Technology (PCAST) is scheduled to meet in open session on Monday, June 25, 2007, at approximately 9 a.m. The PCAST subcommittee on nanotechnology has convened a group of experts from academia, industry, and non-governmental organizations to provide an overview of nanotechnology applications and implications. The PCAST subcommittee is tentatively scheduled to hear presentations on applications of nanotechnology, with specific examples of nanotechnology-based innovation and commercialization across a range of products and industries. The PCAST also is tentatively scheduled to hear presentations on the environmental, health, and safety implications of nanotechnology from a range of perspectives. The presentations are intended to inform, in part, the Council's review of the National Nanotechnology Initiative and assessment of progress towards realizing the benefits of nanotechnology advances. This session will end at approximately 5 p.m. Additional information and the final agenda will be posted at the PCAST Web site at: http://www.ostp.gov/PCAST/pcast.html.

Public Comments: There will be time allocated for the public to speak on the above agenda items. This public comment time is designed for substantive commentary on PCAST's work topics, not for business marketing purposes. Please submit a request for the opportunity to make a public comment five (5) days in advance of the meeting. The time for public comments will be limited to no more than 5 minutes per person. Written comments are also welcome at any time following the meeting. Please notify Celia Merzbacher, PCAST Executive Director, at (202) 456-7116, or fax your request/comments to (202) 456-6021.

FOR FURTHER INFORMATION CONTACT: For information regarding time, place and agenda, please call Celia Merzbacher at (202) 456-7116, prior to 3 p.m. on Thursday, June 21, 2007. Information will also be available at the PCAST Web site at: http://www.ostp.gov/PCAST/pcast.html. Please note that public seating for this meeting is limited and is available on a first-come, first-served basis.

SUPPLEMENTARY INFORMATION: The President's Council of Advisors on Science and Technology was established by Executive Order 13226, on September 30, 2001. The purpose of PCAST is to advise the President on matters of science and technology policy, and to assist the President's National Science and Technology Council in securing private sector participation in its activities. The Council members are distinguished individuals appointed by the President from non-Federal sectors. The PCAST is co-chaired by Dr. John H. Marburger, III, the Director of the Office of Science and Technology Policy, and by E. Floyd Kvamme, a Partner at Kleiner Perkins Caufield & Byers.

Celia Merzbacher,
PCAST Executive Director, Office of Science and Technology Policy.

[FR Doc. E7-10822 Filed 6-5-07; 8:45 am]

BILLING CODE 3170-W4-P